ENVIRONMENTAL PROTECTION AGENCY

[FRL-7424-1]

Notice of Availability for Draft Guidance on the Technical Support Document (TSD) for Title V Permitting of Printing Facilities

AGENCY: Environmental Protection Agency (EPA).

ACTION: Notice of availability.

SUMMARY: We are making available for public review a draft of our pending guidance on the design of air permits for the printing sector. Some approaches in the draft TSD would be potentially available to other industry sectors as well. The technical support document provides guidance to State and local permitting authorities on how they can choose to more efficiently design such permits while ensuring that they still meet all substantive and procedural requirements of the Clean Air Act, including, as applicable, the operating permit regulations EPA promulgated as part 70 of title 40, chapter I of the Code of Federal Regulations. While not mandatory, we would recommend that permitting authorities use this guidance where allowed by their regulations and as their resources and needs dictate.

In no instance would this guidance allow sources to not comply fully with any applicable requirement; it only presents more flexible and/or efficient approaches for doing so. Where State regulations allow, the guidance is potentially useful in streamlining the permit issuance process and minimizing the subsequent need for permit revisions. We believe that the draft will also advance high priority goals within the Agency to: (1) Encourage pollution prevention; (2) assure adequate public participation; (3) promote equal or better environmental protection; and (4) facilitate opportunities for sources to comply in a smarter, more efficient fashion.

A draft of this guidance is available for public review for downloading off the Internet (see ADDRESSES). We do not intend to respond to individual comments, but rather to consider comments and information from the public in the preparation of a final guidance document.

DATES: The review period for this document will close on January 21, 2003. Any comments on the draft guidance must be submitted to EPA by that date.

ADDRESSES: The draft guidance can be accessed at http://www.epa.gov/ttn/oarpg/. Comments should be sent to Michael Trutna, Information Transfer and Program Integration Division (C304-03), U.S. EPA, Research Triangle Park, NC, 27711, (919) 541-5345, fax (919) 541-4028, or trutna.mike@epa.gov.

FOR FURTHER INFORMATION CONTACT: Michael Trutna at the above address or Gary Rust, Information Transfer and Program Integration Division (C304-04), U.S. EPA, Research Triangle Park, NC, 27711, (919) 541-0358, fax (919) 541-4028, or rust.gary@epa.gov. For further information on monitoring or testing issues, please contact Barrett Parker at (919) 541-5635 or parker.barrett@epa.gov.

Dated: November 26, 2002.
William Harnett,
Director, Information Transfer and Program Integration Division.

[FR Doc. 02-31906 Filed 12-18-02; 8:45 am]

BILLING CODE 6560-50-P